GENERAL SERVICES ADMINISTRATION

[Notice-MA-2018-09; Docket No. 2018-0002, Sequence No. 22]

Federal Travel Regulation: Calculating Actual Expense Reimbursement

AGENCY: Office of Government-wide Policy (OGP), General Services Administration (GSA).

ACTION: Notice of Federal Travel Regulation (FTR) Bulletin 18-09, calculating actual expense reimbursement.

SUMMARY: The FTR allows agencies to reimburse employees up to 300 percent of the applicable maximum per diem rate under various circumstances including, but not limited to, when lodging and/or meals are not available within the prescribed allowances for a given temporary duty location. The General Services Administration is notifying agencies that the FTR permits two methods of calculating actual expense reimbursement. The information outlined in FTR Bulletin 18-09 demonstrates how agencies may calculate actual expense reimbursement under each method while staying within the bounds of the current 300 percent actual expense ceiling. This Bulletin also provides clarity and promotes consistency across the Government. This Bulletin is located at www.gsa.gov/ftr under the “FTR & Related Files” tab.

DATES: Applicable Date: October 1, 2018.

FOR FURTHER INFORMATION CONTACT: For clarification of content, please contact Mr. Cy Greenidge, Program Analyst, Office of Government-wide Policy, Office of Asset and Transportation Management, at 202-219-2349, or by email at travelpolicy@gsa.gov. Please cite Notice of FTR Bulletin 18-09.

Dated: August 24, 2018.
Jessica Salmoiraghi,
Associate Administrator, Office of Government-wide Policy.

[FR Doc. 2018-21156 Filed 9-28-18; 8:45 am]

BILLING CODE 6820-14-P